DEPARTMENT OF AGRICULTURE

Foreign Agricultural Service

Agricultural Technical Advisory Committees for Trade in Tobacco, Cotton, Peanuts and Planting Seeds, and Grains, Feed and Oilseeds; Re-structure and Realignment

AGENCY: Foreign Agricultural Service, USDA.

ACTION: Notice and request for comments

SUMMARY: Pursuant to the Federal Advisory Committee Act, notice is hereby given that the Secretary of Agriculture (Secretary), in coordination with the United States Trade Representative (USTR), is considering modifying the existing structure of both the Agricultural Technical Advisory Committees (ATAC) for Trade in Tobacco, Cotton, Peanuts and Planting Seeds (TCPPS) and in Grains, Feed and Oilseeds (GFO). The Secretary is also soliciting comments as to whether or not there are current interests not adequately represented in the Agricultural Trade Advisory Committee System.

DATES: Comments are due on or before November 8, 2010. The proposed changes will become effective upon the renewal of charters for the Agricultural Technical Advisory Committees for Trade scheduled to occur in mid-2011. At that time new members will also be added to the committees.

FOR FURTHER INFORMATION CONTACT: Inquiries or comments regarding: (a) The changes to the GFO and TCPPS committee structures or (b) whether or not there are currently interests not adequately represented in the Agricultural Trade Advisory Committee System, may be sent by electronic mail to Lorie.Fitzsimmons@fas.usda.gov and Steffon.Brown@fas.usda.gov. Comments submitted via U.S. mail should be addressed to: The Office of Negotiations and Agreements, Foreign Agricultural Service (FAS), USDA, Stop 1040, 1400 Independence Ave., SW., Washington, DC 20250, or by fax to (202) 720-0340. The Office of Negotiations and Agreements may be reached by telephone at (202) 720-6219, with inquiries directed to Lorie Fitzsimmons and Steffon Brown.

SUPPLEMENTARY INFORMATION:

Introduction

The ATACs are authorized by sections 135(c)(1) and (2) of the Trade Act of 1974, as amended (Pub. L. 93-618, 19 U.S.C. 2155). The purpose of these committees is to advise the Secretary and the USTR concerning agricultural trade policy. The committees are intended to ensure that representative elements of the private sector have an opportunity to express their views to the U.S. government.

Proposed Committee Changes

Pursuant to the Federal Advisory Committee Act (5 U.S.C. App. II), FAS gives notice that the Secretary and USTR are considering removing representation of the planting seeds industry from the Tobacco, Cotton, Peanuts and Planting Seeds (TCPPS) ATAC and adding representation of the planting seeds sector to the Grains, Feed and Oilseeds (GFO) ATAC. The justification for this structural change is that many of the issues that the GFO committee addresses, such as genetically modified organisms, new technologies and international negotiations, are common within the U.S. planting seeds industry. The proposed changes will result in the Tobacco, Cotton and Peanuts (TCP) ATAC and the Grains, Feed, Oilseeds, and Planting Seeds (GFOPS) ATAC.

Background

In 1974, Congress established a private sector advisory committee system to ensure that U.S. trade policy and negotiating objectives adequately reflect U.S. commercial and economic interests. The private sector advisory committee system currently consists of three tiers:

• The President's Advisory Committee on Trade and Policy Negotiations;

• Five general policy advisory committees, including the Agricultural Policy Advisory Committee; and,

• Twenty-eight technical advisory committees, including the ATACs.

As to the technical advisory committees, Section 135(c)(2) of the Trade Act (19 U.S.C. 215) provides that: The President shall establish such sectoral or functional advisory committees as may be appropriate. Such committees shall, insofar as is practicable, be representative of all industry, labor, agricultural, or service interests (including small business interests) in the sector or functional areas concerned. In organizing such committees, USTR and the Secretaries of Commerce, Labor, Agriculture, the Treasury, or other executive departments, as appropriate, shall—

(A) Consult with interested private organizations; and

(B) take into account such factors as—

(i) patterns of actual and potential competition between United States industry and agriculture and foreign enterprise in international trade,

(ii) the character of the nontariff barriers and other distortions affecting such competition,

(iii) the necessity for reasonable limits on the number of such advisory committees,

(iv) the necessity that each committee be reasonably limited in size, and

(v) in the case of each sectoral committee, that the product lines covered by each committee be reasonably related.

USTR and USDA are seeking comments regarding whether all appropriate interest in the sectors represented by the ATACs are being represented by the current membership of the ATACs, and if not, what additional interest should be represented.

Requirements for Submission: Public comments via e-mail should be addressed to Lorie.Fitsimmons@fas.usda.gov and Steffon.Brown@fas.usda.gov. Comments submitted via U.S. mail should be addressed to: The Office of Negotiations and Agreements, FAS, USDA, Stop 1040, 1400 Independence Ave., SW., Washington, DC 20250.

Dated: September 28, 2010.
Suzanne Hale,
Administrator, Foreign Agricultural Service.

[FR Doc. 2010-25240 Filed 10-6-10; 8:45 am]

BILLING CODE 3410-10-P